DEPARTMENT OF JUSTICE

[OMB Number 1105-0092]

Agency Information Collection Activities; Proposed eCollection eComments Requested; Reinstatement With Change of a Previously Approved Collection; September 11th Victim Compensation Fund Claimant Eligibility and Compensation Form

AGENCY: Civil Division, Department of Justice.

ACTION: 60-Day notice.

SUMMARY: The Civil Division, Department of Justice (DOJ), will be submitting the following information collection request to the Office of Management and Budget (OMB) for review and approval in accordance with the Paperwork Reduction Act of 1995.

DATES: Comments are encouraged and will be accepted for 60 days until March 29, 2024.

FOR FURTHER INFORMATION CONTACT: If you have additional comments especially on the estimated public burden or associated response time, suggestions, or need a copy of the proposed information collection instrument with instructions or additional information, please contact Kimberly Brown, Director of Operations, September 11th Victim Compensation Fund, 1100 L Street NW, Washington, DC 20531 (phone: 1-855-885-1555; email: Kimberly.C.Brown@usdoj.gov).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The September 11th Victim Compensation Fund (VCF) provides compensation to any individual (or a personal representative of a deceased individual) who suffered physical harm or was killed as a result of the terrorist-related aircraft crashes of September 11, 2001, or the debris removal efforts that took place in the immediate aftermath of those crashes. Eligibility and Compensation information are collected through the claim form based on the requirements of the VCF's authorizing statutes. The original September 11th Victim Compensation Fund operated from 2001-2004. The James Zadroga 9/11 Health and Compensation Act of 2010 (Zadroga Act) was signed in 2011. Title II of the Zadroga Act reactivated the VCF, which opened in October 2011 and was initially authorized to operate for five years. In December 2015, the Zadroga Act was reauthorized for five years, until December 18, 2020. The signing of the “Never Forget the Heroes, James Zadroga, Ray Pfeifer, and Luis Alvarez Permanent Authorization of the September 11th Victim Compensation Fund Act” in July 2019, fully funded the VCF to pay all eligible claims and extended the claim filing deadline to October 1, 2090. The VCF will use the information collected through the Eligibility and Compensation Form to determine a claimant's eligibility for an award, and if so, the amount of compensation the claimant will be awarded. The Eligibility section seeks the information required by the Zadroga Act to determine whether a claimant is eligible for the Fund, including information related to: participation in lawsuits related to September 11, 2001; presence at a 9/11 crash site between September 11, 2001 and May 30, 2002; and physical harm suffered as a result of the air crashes and/or debris removal. The Compensation section seeks the information required by the Zadroga Act to determine the amount of compensation for which the claimant is eligible. Specifically, the section seeks information regarding the out-of-pocket losses (including medical expenses) incurred by the claimant that are attributable to the 9/11 air crashes or debris removal; the claimant's pain and suffering, loss of earnings and/or replacement services that are attributable to the 9/11 air crashes or debris removal; and any collateral source payments (such as insurance payments) that the claimant received as a result of the terrorist-related aircraft crashes of September 11, 2001 or debris removal efforts.

Overview of This Information Collection

1. Type of Information Collection: Reinstatement with change of a previously approved collection.

2. The Title of the Form/Collection: September 11th Victim Compensation Fund Claim Form.

3. The agency form number, if any, and the applicable component of the Department sponsoring the collection: OMB No. 1105-0092/September 11th Victim Compensation Fund, Department of Justice.

4. Affected public who will be asked or required to respond, as well as the obligation to respond: Affected Public: Any individual (or a personal representative of a deceased individual) who suffered physical harm or was killed as a result of the terrorist-related aircraft crashes of September 11, 2001, or the debris removal efforts that took place in the immediate aftermath of those crashes. The obligation to respond is required to receive an award from the September 11th Victim Compensation Fund.

5. An estimate of the total number of respondents and the amount of time estimated for an average respondent to respond: It is estimated that 21,000 respondents will complete the form (total estimate for the time period June 2024 through June 2027) in an average of 8 hours.

6. An estimate of the total annual burden (in hours) associated with the collection: The estimated public burden associated with this collection is 168,000 hours.

7. An estimate of the total annual cost burden associated with the collection, if applicable: $.

Total Burden Hours
Activity | Number of respondents | Frequency | Total annual responses | Time per response (hours) | Total annual burden (hours)
September 11th Victim Compensation Fund Claim Form | 21,000 | 1/annually | 21,000 | 8 | 168,000

If additional information is required contact: Darwin Arceo, Department Clearance Officer, United States Department of Justice, Justice Management Division, Policy and Planning Staff, Two Constitution Square, 145 N Street NE, 4W-218, Washington, DC.

Dated: January 23, 2024.
Darwin Arceo,
Department Clearance Officer for PRA, U.S. Department of Justice.

[FR Doc. 2024-01622 Filed 1-26-24; 8:45 am]

BILLING CODE 4410-12-P